DEPARTMENT OF THE INTERIOR

[245D0107SL D2L000000.000000 DL9CSHQS00; OMB Control Number 1092-NEW]

Agency Information Collection Activities; Office of the Solicitor Internship/Externship Application Process

AGENCY: Office of the Solicitor, Interior.

ACTION: Notice of information collection; request for comment.

SUMMARY: In accordance with the Paperwork Reduction Act of 1995, we, the Office of the Solicitor (SOL) are proposing a new information collection in use without OMB approval.

DATES: Interested persons are invited to submit comments on or before May 6, 2024.

ADDRESSES: Send your comments on this information collection request (ICR) by mail to Ariana Rigsby, 1849 C Street NW, MS 6551, Washington, DC 20240; or by email to hr-sol@sol.doi.gov. Please reference OMB Control Number 1092-NEW in the subject line of your comments.

FOR FURTHER INFORMATION CONTACT: To request additional information about this ICR, contact Ariana Rigsby by email at hr-sol@sol.doi.gov, or by telephone at (202) 740-0269. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the Paperwork Reduction Act of 1995 (PRA, 44 U.S.C. 3501 et seq.) and 5 CFR 1320.8(d)(1), all information collections require approval under the PRA. We may not conduct or sponsor and you are not required to respond to a collection of information unless it displays a currently valid OMB control number.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The following information is collected: applicant's resume with two professional or academic references, a completed Request for Consideration form (to designate the locations/offices for which the applicant would like to be considered for an internship), a cover letter addressed to “To Whom it May Concern,” a copy of the applicant's most recent law school transcript (official or unofficial), and a writing sample of no more than three (3) pages. The information is collected for the purpose of applying to SOL's Legal Internship/Externship Program. The information is used to verify the applicant's eligibility, interest in the program, and the location/office they wish to be considered for an internship.

Title of Collection: Office of the Solicitor, Legal Internship/Externship Program.

OMB Control Number: 1092-NEW.

Form Number: None.

Type of Review: New, in use without approval.

Respondents/Affected Public: Individuals (law school students).

Total Estimated Number of Annual Respondents: 200.

Total Estimated Number of Annual Responses: 200.

Estimated Completion Time per Response: 2 hours.

Total Estimated Number of Annual Burden Hours: 400 Hours.

Respondent's Obligation: Voluntary.

Frequency of Collection: One time.

Total Estimated Annual Nonhour Burden Cost: None.

An agency may not conduct or sponsor and a person is not required to respond to a collection of information unless it displays a currently valid OMB control number.

The authority for this action is the Paperwork Reduction Act of 1995 (44 U.S.C. 3501 et seq.).

Marc A. Smith,
Associate Solicitor—Administration.

[FR Doc. 2024-04683 Filed 3-5-24; 8:45 am]

BILLING CODE 4334-63-P